DEPARTMENT OF ENERGY

Federal Energy Regulatory Commission

Combined Notice of Filings #2

September 21, 2015.

Take notice that the Commission received the following electric rate filings:

Docket Numbers: ER15-2678-000.

Applicants: NorthWestern Corporation.

Description: Initial rate filing: Rate Schedule FERC No. 38-SD—Agreements with Western Area Power Administration to be effective 9/22/2015.

Filed Date: 9/21/15.

Accession Number: 20150921-5097.

Comments Due: 5 p.m. ET 10/13/15.

Docket Numbers: ER15-2679-000.

Applicants: Latigo Wind Park, LLC.

Description: Baseline eTariff Filing: Latigo Wind Park, LLC MBR Tariff to be effective 11/15/2015.

Filed Date: 9/21/15.

Accession Number: 20150921-5133.

Comments Due: 5 p.m. ET 10/13/15.

Docket Numbers: ER15-2680-000.

Applicants: Sandstone Solar LLC.

Description: Baseline eTariff Filing: Sandstone Solar LLC MBR Tariff to be effective 11/1/2015.

Filed Date: 9/21/15.

Accession Number: 20150921-5161.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2015.
Nathaniel J. Davis, Sr.,
Deputy Secretary.

[FR Doc. 2015-24371 Filed 9-24-15; 8:45 am]

BILLING CODE 6717-01-P